FEDERAL COMMUNICATIONS COMMISSION

47 CFR Part 54

[WC Docket No.13-184; Report No. 3230; FR ID 322089]

Petition for Reconsideration of Action in Rulemaking Proceeding

AGENCY: Federal Communications Commission.

ACTION: Petition for Reconsideration.

SUMMARY: Petition for Reconsideration (Petition) has been filed in the Commission's proceeding by Jill Stone on behalf of American e-Rate Solutions, LLC.

DATES: Oppositions to the Petition must be filed on or before December 30, 2025. Replies to oppositions to the Petition must be filed on or before January 9, 2026.

ADDRESSES: Federal Communications Commission, 45 L Street NE, Washington, DC 20554.

FOR FURTHER INFORMATION CONTACT: Kate Dumouchel, Telecommunications Access Policy Division, Wireline Competition Bureau, at kate.dumouchel@fcc.gov or 202-418-1839.

SUPPLEMENTARY INFORMATION: This is a summary of the Commission's document, Report No. 3230, released December 9, 2025. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Modernizing the E-Rate Program for Schools and Libraries (WC Docket No. 13-184).

Number of Petitions Filed: 1.

Federal Communications Commission.
Marlene Dortch,
Secretary, Office of the Secretary.

[FR Doc. 2025-22831 Filed 12-12-25; 8:45 am]

BILLING CODE 6712-01-P